DEPARTMENT OF ENERGY

Federal Energy Regulatory Commission

[Project No. 2301-022]

PPL Montana; Notice of Teleconference to Discuss Additional Information Needs for the Mystic Lake Hydroelectric Project

December 20, 2006.

a. Date and Time of Teleconference: January 8, 2007; 9 a.m. MST (11 a.m. EST).

b. Teleconference Call: Call-in procedures and an agenda will be posted to the Commission's Web site soon at: http://www.ferc.gov/EventCalendar/EventsList.aspx?Date=1/6/2007&CalendarID=0.

c. FERC Contact: Steve Hocking at (202) 502-8753 or steve.hocking@ferc.gov.

d. Purpose of Teleconference: PPL Montana filed an application to relicense the Mystic Lake Hydroelectric Project on December 15, 2006. Commission staff may include a “Wilderness Avoidance Alternative” in our NEPA analysis to analyze lowered lake levels in both Mystic and West Rosebud Lakes, if needed, to prevent these two lakes from encroaching upon the Absaroka-Beartooth Wilderness Area. This teleconference is to help Commission staff determine whether any additional information is needed to analyze a “Wilderness Avoidance Alternative” in our NEPA document.

Magalie R. Salas,
Secretary.

[FR Doc. E6-22228 Filed 12-27-06; 8:45 am]

BILLING CODE 6717-01-P